AGENCY FOR INTERNATIONAL DEVELOPMENT

Notice of Meeting

Pursuant to the Federal Advisory Committee Act, notice is hereby given of a meeting of the Advisory Committee on Voluntary Foreign Aid (ACVFA).

Date: February 11, 2003 (8:30 a.m. to 5 p.m.).

Location: National Press Club, 529 14th St., NW., 13th Floor, Washington, DC.

This meeting will feature discussion of public diplomacy and foreign aid in the national interest, including the report “Foreign Aid in the National Interest” just issued by the U.S. Agency for International Development. Participants will have an opportunity to ask questions of the speakers and to discuss the issues in more depth in small groups.

The meeting is free and open to the public. Persons wishing to attend the meeting can fax or e-mail their name to Brenda Jackson, 202-347-9212, pvcsupport@datexinc.com.

Dated: January 28, 2003.
Noreen O'Meara,
Executive Director, Advisory Committee on Voluntary Foreign Aid (ACVFA).

[FR Doc. 03-1856 Filed 1-27-03; 8:45 am]

BILLING CODE 6116-01-P